SMALL BUSINESS ADMINISTRATION

Surrender of License of Small Business Investment Company

Pursuant to the authority granted to the United States Small Business Administration (“SBA”) under Section 309 of the Small Business Investment Act of 1958, as amended, and Section 107.1900 of the Small Business Administration Rules and Regulations, SBA by this notice declares null and void the license to function as a small business investment company under the Small Business Investment Company License No. 06/06-0325 issued to Jefferson Capital Partners I, L.P.

United States Small Business Administration.
Dated: December 10, 2014.
Javier E. Saade,
Associate Administrator, Office of Investment and Innovation.

[FR Doc. 2014-29517 Filed 12-16-14; 8:45 am]

BILLING CODE P